DEPARTMENT OF HEALTH AND HUMAN SERVICES

Centers for Disease Control and Prevention

[60Day-25-1163; Docket No. CDC-2025-0585]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled CDC Fellowship Programs Assessments. This program is designed to collect information that will allow for ongoing, collaborative, and actionable communication between CDC fellowship programs and interest holders and is associated with quality improvement of CDC fellowship programs.

DATES: CDC must receive written comments on or before December 1, 2025.

ADDRESSES: You may submit comments, identified by Docket No. CDC-2025-0585 by any of the following methods:

• Federal eRulemaking Portal: www.regulations.gov. Follow the instructions for submitting comments.

• Mail: Jeffery M. Zirger, Lead, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffery M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and.

5. Assess information collection costs.

Proposed Project

CDC Fellowship Programs Assessments (OMB Control No. 0920-1163, Exp. 03/31/2026)—Revision—National Center for State, Tribal, Local, and Territorial Public Health Infrastructure and Workforce (NCSTLTPHIW), Centers for Disease Control and Prevention (CDC).

Background and Brief Description

CDC's mission is to protect America from health, safety, and security threats, both foreign and in the U.S. To ensure a competent, sustainable, and empowered public health workforce prepared to meet these challenges, CDC plays a key role in developing, implementing, and managing a number of fellowship programs. A fellowship is defined as training or work experience lasting at least one month and consisting of primarily experiential (i.e., on-the-job) learning, in which the trainee has a designated mentor or supervisor. CDC fellowships are intended to develop public health professionals, enhance the public health workforce, and strengthen collaborations with partners in public health and healthcare organizations, academia, and other stakeholders in governmental and non-governmental organizations. Assessing fellowship activities is essential to ensure that these programs are optimized and that the public health workforce is equipped to promote and protect the public's health.

CDC requests a three-year Revision of a Generic Clearance to collect data about its fellowship programs. Data collections will allow for ongoing, collaborative, and actionable communications between CDC fellowship programs and interest holders (e.g., fellows, supervisors/mentors, alumni). Intended use of the resulting information is to:

• guide planning, implementation, and continuous quality improvement of fellowship activities and services;

• improve efficiencies in the delivery of fellowship activities and services; and

• determine to what extent fellowship activities and services are achieving established goals.

Collection and use of information about CDC fellowship activities will help ensure effective, efficient, and satisfying experiences among fellowship program participants and interest holders.

CDC estimates that annually, a subset of CDC's various fellowship programs will conduct one query each with one of the three respondent groups: fellowship applicants or fellows; mentors, supervisors, or employers; and alumni. These collections might include short surveys, interviews, and focus groups.

In this Revision, CDC is revising the estimated number of responses and the estimated burden hours. Lower than anticipated usage for the active approval period and organizational changes at CDC support the request to reduce these estimates. The estimated annualized number of respondents is reduced from 3,091 to 1,225, and the estimated annualized burden hours are reduced from 1,546 to 550. In addition, CDC is standardizing the title of the generic as “CDC Fellowship Programs Assessments.” This title is used on the GENIC Request Template associated with the Generic and has been used on previous Supporting Statement documents. The title “Data Collection for CDC Fellowship Programs” has also been associated with OMB Control No. 0920-1163. For clarity CDC will amend all documentation and consistently use the title “CDC Fellowship Programs Assessments.” No other changes are required.

OMB approval is requested for three years. CDC requests OMB approval for an estimated 550 annual burden hours. There are no costs to respondents other than their time.

Estimated Annualized Burden Hours
Type of respondents | Form name | Number of respondents | Number of responses per respondent | Average burden per response (in hours) | Total burden (in hours)
Applicants or fellows | Fellowship Data Collection Instrument | 750 | 1 | 30/60 | 375
Mentors, supervisors, or employers | Fellowship Data Collection Instrument | 100 | 1 | 30/60 | 50
Alumni | Fellowship Data Collection Instrument | 375 | 1 | 20/60 | 125
Total |  |  |  |  | 550

Jeffrey M. Zirger,
Lead, Information Collection Review Office, Office of Public Health Ethics and Regulations, Office of Science, Centers for Disease Control and Prevention.

[FR Doc. 2025-19251 Filed 10-1-25; 8:45 am]

BILLING CODE 4163-18-P